CORPORATION FOR NATIONAL AND COMMUNITY SERVICE

Sunshine Act Notice

The Board of Directors of the Corporation for National and Community Service gives notice of the following meeting:

DATE AND TIME: Friday, March 3, 2000, 9:30-11:00 a.m.

PLACE: Golden Gate Club, Building 135 Fisher Loop, The Presidio of San Francisco, San Francisco, CA 94129.

STATUS: Open.

MATTERS TO BE CONSIDERED:

I. Chair's Opening Remarks

II. Approval of Minutes of September 1999 Meeting

III. Status Report by Chief Executive Officer

IV. Committee Reports

A. Executive Committee

B. Planning and Evaluation Committee Items for Board Action: Annual Plan

C. Management, Budget, and Governance Committee

D. Communications Committee

V. National Service Reports

A. Technology and the Digital Divide

B. Service-Learning from District and School Perspective

VI. Future Board Meeting Dates

VII. Public Comment

VIII. Adjournment

ACCOMMODATIONS: Anyone who needs an interpreter or other accommodation should notify the Corporation's contact person.

CONTACT PERSON FOR FURTHER INFORMATION: Rhonda Taylor, Associate Director of Special Projects and Initiatives, Corporation for National Service, 8th Floor, Room 8619, 1201 New York Avenue NW., Washington, DC 20525. Phone (202) 606-5000 ext. 282. Fax (202) 565-2794. TDD: (202) 565-2799.

Dated: February 23, 2000.
Thomasenia P. Duncan,
General Counsel, Corporation for National and Community Service.

[FR Doc. 00-4594 Filed 2-23-00; 12:19 pm]

BILLING CODE 6050-28-M